DEPARTMENT OF THE INTERIOR

Bureau of Land Management

[LLWY920000 L14300000.FR0000; WYW179015]

Notice of Realty Action: Application for a Recordable Disclaimer of Interest in Land; Wyoming

AGENCY: Bureau of Land Management, Interior.

ACTION: Notice of realty action.

SUMMARY: John L. Nau III and Barbara E. Nau, of Houston, Texas, and Donald and Diane Siegel, Trustees of the Siegel Residence Trust of Wilson, Wyoming, have filed a joint application for Recordable Disclaimer of Interest from the United States for certain riparian parcels in Teton County, Wyoming that are adjacent to other parcels they own in the County. The cloud on the title for these parcels was created by the Snake River RMP which identified those lands, along with others, for disposal by the Bureau of Land Management (BLM) to other public entities.

DATES: Interested parties may submit comments or objections to this application until June 23, 2011.

ADDRESSES: Comments should be sent to Janelle Wrigley, Realty Officer, Wyoming State Office, Bureau of Land Management, 5353 Yellowstone Road, Cheyenne, Wyoming 82009; or e-mailed to Janelle_Wrigley@blm.gov.

FOR FURTHER INFORMATION CONTACT: Janelle Wrigley, Realty Officer, BLM, Wyoming State Office, 5353 Yellowstone Road, Cheyenne, Wyoming 82009; (307) 775-6257; or e-mail Janelle_Wrigley@blm.gov.

SUPPLEMENTARY INFORMATION: Pursuant to Section 315 of the Federal Land Policy and Management Act of 1976, 43 U.S.C. 1745, and 43 CFR 1864, John L. Nau III, Barbara E. Nau and Donald and Diane Siegel have filed a joint application for Recordable Disclaimer of Interest in the following described land:

Sixth Principal Meridian

T. 42 N., R. 116 W.,

That land riparian to lots 4, 5 and 6 of section 20 lying between the meander lines shown on the Plat of Survey approved June 5, 1979, for the Yodler Subdivision and the thread of the Snake River.

The area described contains approximately 5 acres in Teton County.

The Naus and the Siegels contend that they carry title to those lands from the meander line of Yodler lots 4, 5, and 6 to the Thread of the Snake River. The BLM has determined that the United States has no claim to, nor interest in the above described land and issuance of the proposed disclaimer would help remove the cloud on the title to those lands created by the RMP.

For a period of 90 days from date of publication of this notice, interested persons may submit written comments on or objections to the proposed disclaimer. If no objections are submitted, the disclaimers will be issued to John L. Nau III, Barbara E. Nau, and Donald and Diane Siegel, Trustees of the Siegel Residence Trust, their successors or assigns, after the 90-day comment period ends.

Before including your address, phone number, e-mail address, or other personal identifying information in your comment, you should be aware that your entire comment—including your personal identifying information—may be made publicly available at any time. While you may ask us in your comment to withhold your personal identifying information from public review, we cannot guarantee that we will be able to do so.

Any adverse comments will be reviewed by the BLM Wyoming State Director. In the absence of any adverse comments, a Disclaimer of Interest may be approved stating that the United States does not have a valid interest in the described land.

(Authority: 43 CFR 1864)

Donald A. Simpson,
Wyoming State Director.

[FR Doc. 2011-7000 Filed 3-24-11; 8:45 am]

BILLING CODE 4310-22-P